DEPARTMENT OF ENERGY

Federal Energy Regulatory Commission

[Docket No. CP02-10-000]

Transcontinental Gas Pipe Line Corp.; Notice of Application

October 30, 2001.

Take notice that on October 22, 2001, Transcontinental Gas Pipe Line Corporation (Transco), PO Box 1396, Houston, Texas 77251-1396, filed an application in Docket No. CP02-10-000 pursuant to section 7(c) of the Natural Gas Act (NGA) and part 157(A) of the Federal Energy Regulatory Commission's Regulations (Commission), for a certificate of public convenience and necessity authorizing Transco's construction and operation of certain facilities at Compressor Station No. 110 (Station 110) in Randolph County, Alabama to comply with the Clean Air Act Amendments of 1990, all as more fully set forth in the application which is on file with the Commission and open to public inspection. Copies of this filing are on file with the Commission and are available for public inspection. This filing may also be viewed on the web at http://www.ferc.gov using the “RIMS” link, select “Docket #” and follow the instructions (call 202-208-2222 for assistance).

Transco states that the Clean Air Act Amendments of 1990 and state implementation plans require certain reductions of NOX (oxides of nitrogen) air emissions at several of Transco's compressor stations. Accordingly, during the past few years and over the next few years Transco has installed and plans to install certain facilities at these stations to achieve the required reductions of NOX. Transco states that it plans to install these facilities pursuant to its blanket facilities certificate (18 CFR 157.208) issued in Docket No. CP82-426 when it is authorized to do so (either under automatic or prior notice authorization, depending on the estimated dollar amount). However, at the stations where the estimated total cost of installing these facilities is more than $20.6 million, Transco states that it is not authorized to perform such work pursuant to its blanket facilities certificate and, therefore, is required to file an application for a certificate of public convenience and necessity.

Transco states that it proposes to modify several of its existing reciprocating engines at Station 110 in order to comply with the State of Alabama plan to implement the Clean Air Act Amendments of 1990. Station 110 has 16 units including 15 reciprocating/compressor units and one Solar Mars gas turbine driven centrifugal compressor unit. The facilities at Station 110 are located within a fenced area of approximately 28 acres.

Transco states that it plans to install turbochargers and associated equipment on 9 of the 15 reciprocating engines in order to reduce NOX emissions. These engines currently do not have turbochargers on them. Transco plans to modify the existing turbochargers at the other 6 reciprocating units to increase their capacity and install associated equipment in order to reduce NOX emissions. At all 15 engines, emissions will be reduced by achieving a true lean air-fuel ratio, injecting high pressure fuel directly into the power cylinders and making other engine adjustments. The injection of high pressure fuel directly into the power cylinders significantly improves the combustion process by producing a more homogeneous mixture of air and fuel within the power cylinder. The true lean air-fuel ratio coupled with the high pressure fuel injection works by promoting stable combustion characteristics and thus reduces the formation of NOX.

Transco states that following installation of the turbochargers, the 9 engines will have the potential to perform above their current operating horsepower. However, since Station 110 is automated, Transco has the ability to shut down other engines or reduce their load to ensure that the station will not operate above the station's total certificated horsepower. Since Transco will install these turbochargers at Station 110 solely to achieve an environmental improvement, i.e., lower NOX emissions, Transco states that it has no intent or need to operate the station above its certificated horsepower. Therefore, Transco states that when it installs these turbochargers at Station 110 it will adjust the automation program at the station so that it will not operate above its certificated horsepower.

At the other 6 engines, Transco states that modification of the existing turbochargers to increase their capacity will not create the potential of these engines performing above their current operating horsepower because the engines are already operating at maximum horsepower and cannot operate at a higher horsepower output. Accordingly, Transco states that there will be no increase in the capacity of Transco's system in the vicinity of the station as a result of installing the 9 new turbochargers and modifying the 6 existing turbochargers.

Transco states that installation of new turbochargers and modifications to existing ones at Station 110 will require some work to be done outside of the compressor building. All of the proposed work described above will be built within 50 feet of existing station facilities and will be done within the confines of previously disturbed areas. Approximately 0.2 acre of previously disturbed ground will be affected by the proposed project. Restoration of this area will be conducted according to the Commission's Upland Erosion Control, Revegetation, and Maintenance Plan.

Transco states that it estimates the proposed modifications will cost $26.8 million. Transco states that the installation and operation of the proposed facilities will have no significant impact on the quality of human health or the environment other than the positive impact of reducing NOX emissions and that a state air permit will be negotiated with the Alabama Department of Environmental Management (ADEM).

Transco states that this project will serve the public convenience and necessity because it will reduce NOX emissions at Station 110 and will enable Transco to comply with the Clean Air Act Amendments of 1990 and the requirements of the ADEM implementing regulations.

Transco states that it needs to commence the work at Station 110 in January 2002 in order to complete the work on a timely basis with respect to the requirements of the Clean Air Act Amendments of 1990 and the requirements of the ADEM, while at the same time accommodating the operational needs of its pipeline system and ensuring that Transco's gas service obligations are met.

Any questions regarding this application should be directed to Tom Messick, P.O. Box 1396, Houston, Texas 77251-1396 at (713) 215-2772.

There are two ways to become involved in the Commission's review of this project. First, any person wishing to obtain legal status by becoming a party to the proceedings for this project should, on or before November 20, 2001, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-27671 Filed 11-2-01; 8:45 am]

BILLING CODE 6717-01-P